OFFICE OF THE UNITED STATES TRADE REPRESENTATIVE

Notice of Meeting of the Industry Sector Advisory Committee on Capitol Goods (ISAC-2)

AGENCY: Office of the United States Trade Representative.

ACTION: Notice of a partially opened meeting.

SUMMARY: The Industry Sector Advisory Committee on Capitol Goods (ISAC-2) will hold a meeting on September 6, 2002, from 12 p.m. to 4:30 p.m. The meeting will be opened to the public from 1:30 p.m. to 4:30 p.m. The meeting will be closed to the public from 12 p.m. to 1;30 p.m.

DATES: The meeting is scheduled for September 6, 2002, unless otherwise notified.

ADDRESSES: The meeting will be held at McCormick Place, 2301 S. Lake Shore Drive, Chicago, IL 60616.

FOR FURTHER INFORMATION CONTACT: Padraic Sweeney, at (202) 482-5024, Department of Commerce, 14th Street and Constitution Avenue, NW., Washington, DC 20230 or Christina Sevilla, Director for Intergovernmental Affairs, on (202) 395-6120.

SUPPLEMENTARY INFORMATION: During the opened portion of the meeting the following agenda items will be discussed.

• Trade Promotion Authority (TPA) and the Administration's International Trade Policy Agenda.

• Steel Issues.

• USG Trade Finance Programs.

• Role of DOC/International Trade Administration.

• Overview of the Industry Consultations Program.

• Overview of the role of U.S. Export Assistance Centers.

Christina Sevilla,
Acting Assistant U.S. Trade Representative for Intergovernmental Affairs and Public Liaison (A).

[FR Doc. 02-20291 Filed 8-9-02; 8:45 am]

BILLING CODE 3190-01-M